DEPARTMENT OF THE INTERIOR

Fish and Wildlife Service

[FWS-R8-ES-2013-N214; 80221-1113-0000-C2]

Endangered and Threatened Wildlife and Plants; Final Recovery Plan for Tidal Marsh Ecosystems of Northern and Central California

AGENCY: Fish and Wildlife Service, Interior.

ACTION:

Notice of document availability.

SUMMARY: We, the U.S. Fish and Wildlife Service, announce the availability of the final recovery plan for three endangered plants, Cirsium hydrophilum var. hydrophilum (Suisun thistle), Chloropyron molle ssp. molle (soft bird's-beak), and Suaeda californica (California sea-blite), and two endangered animals, California clapper rail (Rallus longirostris obsoletus) and salt marsh harvest mouse (Reithrodontomys raviventris). The recovery plan includes recovery objectives and criteria, and specific actions necessary to achieve downlisting and delisting from the Federal Lists of Endangered and Threatened Wildlife and Plants.

ADDRESSES: You may obtain a copy of the recovery plan from our Web site at http://www.fws.gov/endangered/species/recovery-plans.html. Alternatively, you may contact the Sacramento Fish and Wildlife Office, U.S. Fish and Wildlife Service, 2800 Cottage Way, Suite W-2605, Sacramento, CA 95825 (telephone 916-414-6700).

FOR FURTHER INFORMATION CONTACT: Jennifer Norris, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

The three plants, Cirsium hydrophilum var. hydrophilum, Chloropyron molle ssp. molle, and Suaeda californica, along with both animals, California clapper rail and salt marsh harvest mouse, inhabit tidal marsh ecosystems in central California. We listed C. hydrophilum var. hydrophilum and C. molle ssp. molle on November 20, 1997 (62 FR 61916), and S. californica on December 15, 1994 (59 FR 64613). C. molle ssp. molle is the currently accepted scientific name for this species, although the species was originally listed under the scientific name Cordylanthus mollis ssp. mollis and remains listed that way in the List of Endangered and Threatened Plants at 50 CFR 17.12(h). However, we will soon issue a proposed rule to update the taxonomy for this species on the List of Endangered and Threatened Plants, so throughout the rest of this document we refer to this species with the scientific name C. molle ssp. molle.

We listed the California clapper rail and salt marsh harvest mouse on October 13, 1970 (35 FR 16047). A recovery plan for the California clapper rail and salt marsh harvest mouse was published on November 16, 1984 (USFWS 1984, pp. 1-141). However, since a substantial amount of additional information is now available, it is appropriate to revise the plan to incorporate this new information, and to add the more recently listed plant species into the recovery program. Further, the plan has been expanded to include a comprehensive restoration and management component of the tidal marsh ecosystems of the area.

In addition to the five entities above, the Tidal Marsh Ecosystems of Northern and Central California recovery plan includes information related to Chloropyron maritimum ssp. maritimum (salt marsh bird's-beak), which we listed as endangered on September 28, 1978 (43 FR 44810). C. maritimum ssp. maritimum is the currently accepted scientific name for this species, although the species was originally listed under the scientific name Cordylanthus maritimus ssp. maritimus and remains listed that way in the List of Endangered and Threatened Plants at 50 CFR 17.12(h). However, we will soon issue a proposed rule to update the taxonomy for this species on the List of Endangered and Threatened Plants, so throughout the rest of this document we refer to this species with the scientific name C. maritimum ssp. maritimum. The northern range limit of C. maritimum ssp. maritimum is in Morro Bay; however, Morro Bay was omitted from the Salt Marsh Bird's-Beak Recovery Plan (U.S. Fish and Wildlife Service 1985a) because the taxonomic interpretation at the time classified this population in another subspecies that is not federally listed. Current taxonomic interpretation considers the Morro Bay population as C. maritimum ssp. maritimum. Therefore, we include recovery goals for this northern population.

Section 4(f) of the Act requires us to provide an opportunity for public review and comment prior to finalization of recovery plans, including revisions to such plans. We made the draft of this revised recovery plan available for public comment from February 10, 2010 to June 10, 2010 (75 FR 6696). We considered all information we received during the public comment period and revised the recovery plan accordingly.

Species Information

Cirsium hydrophilum var. hydrophilum

Cirsium hydrophilum var. hydrophilum was once widespread in Suisun Marsh, but, due to habitat loss, in the last two decades has been found in only four localities: Grizzly Island, Peytonia Slough, Rush Ranch, and Hill Slough. These populations have been in decline since the 1990s and 2000s.

Chloropyron molle ssp. molle

Chloropyron molle ssp. molle, though threatened by past habitat loss, retains populations in the tidal marshes of Napa-Sonoma, Point Pinole, Carquinez Straits, Suisun Marsh area, and northern Contra Costa County. These populations are composed of many shifting colonies or subpopulations, with great variability in population size and distribution.

Suaeda californica

Suaeda californica occurred historically in high tidal marsh in portions of San Francisco Bay, where it became nearly extinct because of habitat loss. Due to several reintroductions between 1999 and 2008, it is currently known from three sites in the San Francisco Bay and scattered locations along the shoreline of Morro Bay, San Luis Obispo County.

California Clapper Rail

The historic range of California clapper rails may have extended from tidal marshes of Humboldt Bay to Morro Bay; however, the species now occurs only within the tidal and brackish marshes around San Francisco Bay where it is restricted to less than 10 percent of its former geographic range. Population numbers reached an all-time historical low of about 500 birds in 1991, then rebounded somewhat. Results of an estuary-wide survey estimated a minimum average population between 2005 and 2008 of 1,425 rails (Liu et al. 2009); however, population numbers declined during that period at a per-year rate of 20 percent, as habitat was lost bay-wide, and are currently lower.

Salt Marsh Harvest Mouse

The two subspecies of salt marsh harvest mouse are restricted to the tidal and brackish marshes of San Francisco Bay, San Pablo Bay, and Suisun Bay areas. The southern subspecies inhabits central and south San Francisco Bay, and has suffered severe habitat loss and fragmentation. Less than 10 percent of its historic habitat acreage remains, and nearly all is deficient in its structural suitability. The northern subspecies, living in the marshes of San Pablo and Suisun bays, has also sustained extensive habitat loss and degradation, but less so than the southern subspecies.

These species occur in a variety of tidal marsh habitats where they are limited by the requirements of moisture, salinity, topography, soil types, and climatic conditions. Adjacent uplands and ecotone areas are also crucial habitats for many of these species. Primary threats to all the listed species include historical and current habitat loss and fragmentation due to urban development, agriculture, and diking related to duck hunting; altered hydrology and salinity; nonnative invasive species; disturbance; contamination; risk of extinction due to small population size; and the most central threat, sea level rise due to climate change.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The ultimate goal of this recovery plan is to recover all focal listed species so that they can be delisted. The interim goal is to improve the status of the focal listed species to the point that they can be reclassified from endangered to threatened status. For Chloropyron maritimum ssp. maritimum, the goal is to support recovery as described in the Salt Marsh Bird's-Beak Recovery Plan (U.S. Fish and Wildlife Service 1985a).

The recovery plan contains the following five ecosystem-level strategies for recovery, which we believe will promote a healthy, stable ecosystem for populations of these species:

1. Acquire existing, historic, and restorable tidal marsh habitat to promote the recovery of listed species and the long-term conservation of species of concern and other tidal marsh species;

2. Manage, restore, and monitor tidal marsh habitat to promote the recovery of listed species and the long-term conservation of species of concern and other tidal marsh species;

3. Conduct rangewide species status surveys/monitoring and status reviews for listed species and species of concern;

4. Conduct research necessary for the recovery of listed species and the long-term conservation of species of concern; and

5. Improve coordination, participation, and outreach activities to achieve recovery of listed species and long-term conservation of species of concern.

As these species meet reclassification and recovery criteria, we will review each species' status and consider each species for reclassification or removal from the Federal Lists of Endangered and Threatened Wildlife and Plants.

Authority

We developed our recovery plan under the authority of section 4(f) of the Act, 16 U.S.C. 1533(f). We publish this notice under section 4(f) of the Endangered Species Act of 1973, as amended (16 U.S.C. 1531 et seq.).

Dated: February 20, 2014.
Alexandra Pitts,
Regional Director, Pacific Southwest Region.

[FR Doc. 2014-04138 Filed 2-25-14; 8:45 am]

BILLING CODE 4310-55-P